FEDERAL COMMUNICATIONS COMMISSION

47 CFR Part 64

[CG Docket No. 03-123; FCC 19-90; FRS 16384]

TRS Modernization

AGENCY: Federal Communications Commission.

ACTION: Final rule.

SUMMARY: In this document, The Federal Communications Commission (FCC or Commission) takes action to update the Commission's definition of telecommunications relay service (TRS) in accordance with the Twenty-First Century Communications and Video Accessibility Act of 2010 (CVAA).

DATES: Effective Date: This rule is effective February 10, 2020.

FOR FURTHER INFORMATION CONTACT: Michael Scott, Consumer and Governmental Affairs Bureau, at (202) 418-1264, or email Michael.Scott@fcc.gov.

SUPPLEMENTARY INFORMATION: This is a summary of the Commission's Report and Order, document FCC 19-90, adopted on September 18, 2019, released on September 20, 2019, in CG Docket No. 03-123. The Commission previously sought comment on this issue in the Further Notice of Proposed Rulemaking (TRS Definition FNPRM), published at 79 FR 62875, October 21, 2014. A Further Notice of Proposed Rulemaking contained in document FCC 19-90 is published elsewhere in this issue of the Federal Register. The full text of document FCC 19-90 will be available for public inspection and copying via the Commission's Electronic Comment Filing System (ECFS), and during regular business hours at the FCC Reference Information Center, Portals II, 445 12th Street SW, Room CY-A257, Washington, DC 20554. To request materials in accessible formats for people with disabilities (braille, large print, electronic files, audio format), send an email to fcc504@fcc.gov, or call the Consumer and Governmental Affairs Bureau at (202) 418-0530 (voice) or (202) 418-0432 (TTY).

Congressional Review Act

The Commission sent a copy of document FCC 19-90 to Congress and the Government Accountability Office pursuant to the Congressional Review Act, 5 U.S.C. 801(a)(1)(A).

Final Paperwork Reduction Act of 1995 Analysis

Document FCC 19-90 does not contain any new or modified information collection requirements subject to the Paperwork Reduction Act of 1995, Public Law 104-13. In addition, therefore, it does not contain any proposed information collection burden for small business concerns with fewer than 25 employees, pursuant to the Small Business Paperwork Relief Act of 2002, Public Law 107-198, see 44 U.S.C. 3506(c)(4).

Synopsis

1. Statutory Definition of TRS. The original version of 47 U.S.C. 225, enacted in 1990, defined TRS as telephone transmission services that provide the ability for an individual who has a hearing impairment or speech impairment to engage in communication by wire or radio with a hearing individual in a manner that is functionally equivalent to the ability of an individual who does not have a hearing impairment or speech impairment to communicate using voice communication services by wire or radio. This definition was incorporated into the Commission's rules.

2. In 2010, Congress amended the statutory definition of TRS to remove the specification that one of the parties to a TRS call must be a hearing person. As amended, TRS means telephone transmission services that provide the ability for an individual who is deaf, hard of hearing, deaf-blind, or who has a speech disability to engage in communication by wire or radio with one or more individuals, in a manner that is functionally equivalent to the ability of a hearing individual who does not have a speech disability to communicate using voice communication services by wire or radio.

3. The Commission amends the definition of TRS contained in the Commission's rules to conform to the current statutory definition, as amended by the CVAA. The amended rule does not authorize compensation for every call between two individuals with hearing or speech disabilities. In most cases, people using the same form of TRS can understand each other without additional help from a relay service. For example, a call between two registered video relay service (VRS) users, in which both parties use video to sign to each other, would not require any help from a communications assistant (CA) and would not be eligible for compensation from the TRS Fund. The same applies to calls between two TTY users or between two users of IP Relay. An exception to this same-relay-service rule applies, however, when more than one person on a call uses captioned telephone service (CTS), internet Protocol captioned telephone service (IP CTS), or speech-to-speech service (STS). This is because calls between or among CTS, IP CTS, or STS users may still require captioning or re-voicing using more than one relay leg to ensure that one party's speech can be understood by the other party. Specifically, for calls between or among CTS and IP CTS users, each party requires captioning by a CA or automated speech recognition (ASR) system in order to understand what the other party says to that user. Similarly, for calls between or among STS users, each party must have their speech re-voiced in order for the other party to understand what the first party says.

Final Regulatory Flexibility Analysis

4. As required by the Regulatory Flexibility Act of 1980, as amended, the Commission incorporated an Initial Regulatory Flexibility Analysis (IRFA) into the TRS Definition FNPRM. The Commission sought written public comment on the proposals in the TRS Definition FNPRM, including comment on the IRFA. No comments were received in response to the IRFA.

Need for, and Objectives of, the Rules

5. The Report and Order updates the Commission's definition of TRS to align the definition with changes made by the CVAA to the 47 U.S.C. 225(a)(3) definition.

Summary of Significant Issues Raised by Public Comments in Response to the IRFA

6. No comments were filed in response to the IRFA.

Response to Comments by the Chief Counsel for Advocacy of the Small Business Administration

7. The Chief Counsel for Advocacy of the Small Business Administration did not file any comments in response to the proposed rules in this proceeding.

Small Entities Impacted

8. The rules adopted in the Report and Order will affect obligations of TRS providers. These services can be included within the broad economic category of All Other Telecommunications.

Description of Projected Reporting, Recordkeeping, and Other Compliance Requirements

9. The revised definition for TRS does not create direct reporting, recordkeeping or other compliance requirements on TRS providers.

Steps Taken To Minimize Significant Impact on Small Entities, and Significant Alternatives Considered

10. Conforming the Commission's definition of TRS to align the definition with the changes made by the CVAA to the statutory section 225(a)(3) definition will have no impact on TRS providers, because the amendment to the Commission's rules will not change the current practice of allowing compensation for TRS calls that fit within the statutory definition.

Ordering Clauses

11. Pursuant to sections 1, 2, and 225 of the Communications Act of 1934, as amended, 47 U.S.C. 151, 152, and 225, document FCC 19-90 is adopted and part 64 of title 47 is amended.

List of Subjects in 47 CFR Part 64

Individuals with disabilities, Telecommunications, Telecommunications relay services.

Federal Communications Commission.
Marlene Dortch,
Secretary.

Final Rules

For the reasons discussed in the preamble, the Federal Communications Commission amends 47 CFR part 64 as follows:

PART 64—MISCELLANEOUS RULES RELATING TO COMMON CARRIERS

1. The authority citation for part 64 continues to read as follows:

Authority: 47 U.S.C. 154, 201, 202, 217, 218, 220, 222, 225, 226, 227, 228, 251(a), 251(e), 254(k), 262, 403(b)(2)(B), (c), 616, 620, and 1401-1473, unless otherwise noted.

2. Amend § 64.601 by revising paragraph (a)(39) to read as follows:

§ 64.601 Definitions and provisions of general applicability.

(a) * * *

(39) Telecommunications relay services (TRS). Telephone transmission services that provide the ability for an individual who is deaf, hard of hearing, deaf-blind, or who has a speech disability to engage in communication by wire or radio with one or more individuals, in a manner that is functionally equivalent to the ability of a hearing individual who does not have a speech disability to communicate using voice communication services by wire or radio.

* * * * *

[FR Doc. 2019-28445 Filed 1-8-20; 8:45 am]

BILLING CODE 6712-01-P